DEPARTMENT OF HOUSING AND URBAN DEVELOPMENT

[Docket No. FR-4733-N-02]

Notice of Proposed Information Collection: Comment Request, Consolidated Planning

AGENCY: Office of the Assistant Secretary for Community Planning and Development, HUD.

ACTION: Notice of proposed information collection for public comments.

SUMMARY: The proposed information collection requirements for Consolidated Planning for Community Planning and Development (CPD) programs described below will be submitted to the Office of Management and Budget (OMB) for review, as required by the Paperwork Reduction Act. The Department is soliciting public comments on the subject proposal.

DATES: Comments Due Date: June 10, 2002.

ADDRESSES: Interested persons are invited to submit comments regarding this proposal. Comments should refer to the proposal by name and/or OMB Control Number and should be sent to: Shelia Jones, Reports Liaison Oficer, Department of Housing and Urban Development, 451 7th Street, SW., Room 7232, Washington, DC 20410.

FOR FURTHER INFORMATION CONTACT: Salvatore Sclafani, Policy Division, Room 7154, Washington, DC 20410, 202-708-0614, ext. 4364 (this is not a toll-free number) for copies of the proposed forms and other available documents:

SUPPLEMENTARY INFORMATION: The Department will submit the proposed information collection to OMB for review, as required by the Paperwork Reduction Act of 1995 (44 U.S.C. Chapter 35 as amended). As required under 5 CFR 1320.8(d)(1), HUD and OMB are seeking comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information submission of responses.

Title of Proposal: Consolidated Plan.

Description of the Need for the Information and Proposed Uses: The information is needed to provide HUD with preliminary assessment as to the statutory and regulatory eligibility of proposed grantee projects. A secondary need is informing citizens of intended uses for program funds.

Agency Form Numbers (if applicable): The Department's collection of this information is in compliance with statutory provisions of the Cranston-Gonzalez National Affordable Housing Act of 1990 that requires the participating jurisdictions submit a Comprehensive Housing Affordability Strategy (Section 216(5)), the 1974 Housing and Community Development Act, as amended, that requires states and localities to submit a Community Development Plan (Section 104(b)(4) and Section 104(b)(m) and statutory provisions of these Acts that require states and localities to submit applications for these formula grant programs.

Members of the Affected Public: State and local governments participating in the Community Development Block Grant Program (CDBG), the HOME Investment Partnerships (HOME) program, the Emergency Shelter Grants (ESG) program, or the Housing Opportunities with AIDS/HIV (HOPWA) program.

Estimation of the total numbers of hours needed to prepare the information collection including number of respondents, frequency of response and hours of response: Since the original approval of the Consolidated Planning paperwork reduction estimate in 1995 (OMB Control Number 2506-0117), additional localities have qualified for assistance under the Community Development Block Grant (CDBG) program, thus increasing the overall burden calculation. Additionally, this submission includes paperwork estimates associated with narrative information required by the Consolidated Annual Performance and Evaluation Report. Reporting on annual performance was not included in the original Consolidated Plan paperwork estimate that was submitted to OMB. There have been several major regulatory changes made to existing CDBG regulations and those for the HOME Investment Partnerships (HOME) program which have resulted in a slight increase in overall burden hour calculations. Each of these regulatory changes have been submitted for comment in the National Register and to OMB independently.

The revised paperwork estimates are as follows:

Task | Number of respondents | Frequency of response | Total U.S. burden hours
Consolidated Plan:
Localities | 1,000 | 1 | 332,025
States | 50 | 1 | 48,900
Performance Report:
Localities | 1,000 | 1 | 150,000
States | 50 | 1 | 12,000
Abreviated Strategy | 100 |  | 7,000
Total |  |  | 549,925

Status of the proposed information collection: Reinstatement, with minor changes of a previously approved collection for which approval is near expiration and the request for OMB approval's for three years. The current OMB approval expires June 30, 2002.

Authority: Section 3506 of the Paperwork Reduction Act of 1995, 44 U.S.C. Chapter 35, as amended.

Dated: April 2, 2002.
Donna M. Abbenante,
Assistant Secretary for Community Planning and Development.

[FR Doc. 02-8479 Filed 4-8-02; 8:45 am]

BILLING CODE 4210-29-M